GENERAL SERVICES ADMINISTRATION

Women's Progress Commemoration Commission

AGENCY: General Services Administration.

ACTION: Meeting Notice.

SUMMARY: Notice is hereby given that the Women's Progress Commemoration Commission will hold an open meeting from 8 a.m. to 2:30 p.m. on Wednesday, July 12, 2000, at the Holiday Inn Waterloo/Seneca Falls, 2468 NY State Route 414, Waterloo, NY.

Purpose: The Commission will meet to hear testimony from interested parties and discuss methods to commemorate sites of historic significance relating to women in American history.

FOR FURTHER INFORMATION CONTACT: Martha Davis (202) 501-0705, Assistant to the Associate Administrator for Communications, General Services Administration. Also, inquiries may be sent to martha.davis@gsa.gov.

Dated: June 20, 2000.
Beth Newburger,
Associate Administrator for Communications.

[FR Doc. 00-16277 Filed 6-26-00; 8:45 am]

BILLING CODE 6820-34-M